DEPARTMENT OF DEFENSE

Department of the Navy

Notice of Intent To Grant Exclusive Patent License; SWORD Diagnostics

AGENCY: Department of the Navy, DOD.

ACTION: Notice.

SUMMARY: The Department of the Navy hereby gives notice of its intent to grant to SWORD Diagnostics, a revocable, nonassignable, exclusive license, to practice in the fields of rapid detection of pathogens for food safety; drinking water and process water; and human and veterinary diagnostic markets in the United States and certain foreign countries, the Government-owned inventions described in U.S. Patent No. 6,038,344 entitled “Intelligent Hypersensor Processing System (IHPS)”, Navy Case No. 77,409; U.S. Patent No. 6,167,156 entitled “Compression of Hyperdata with ORASIS Multisegment Pattern Sets (CHOMPS)”, Navy Case No. 78,739; and U.S. Provisional Patent Application Serial No. 60/535,179 entitled “Scanned Wavelength Spectroscopic Detector (SWSD) for Identifying Biological Cells and Organisms”, Navy Case No. 84,871.

DATES: Anyone wishing to object to the grant of this license must file written objections along with supporting evidence, if any, not later than September 15, 2004.

ADDRESSES: Written objections are to be filed with the Naval Research Laboratory, Code 1004, 4555 Overlook Avenue, SW., Washington, DC 20375-5320.

FOR FURTHER INFORMATION CONTACT: Ms. Jane Kuhl, Head, Technology Transfer Office, NRL Code 1004, 4555 Overlook Avenue, SW., Washington, DC 20375-5320, telephone (202) 767-3083. Due to U.S. Postal delays, please fax (202) 404-7920, E-Mail: kuhl@utopia.nrl.navy.mil or use courier delivery to expedite response.

(Authority: 35 U.S.C. 207, 37 CFR part 404.)

Dated: August 24, 2004.
J.H. Wagshul,
Commander, Judge Advocate General's Corps, U.S. Navy, Federal Register Liaison Officer.

[FR Doc. 04-19843 Filed 8-30-04; 8:45 am]

BILLING CODE 3810-FF-P